ENVIRONMENTAL PROTECTION AGENCY

[EPA-HQ-OW-2021-0547; FRL-5601.5-01-OW]

RIN 2040-ZA38

Preliminary Effluent Guidelines Program Plan 15

AGENCY: Environmental Protection Agency (EPA).

ACTION: Notice of availability.

SUMMARY: This notice announces the availability of the U.S. Environmental Protection Agency's (EPA) Preliminary Effluent Guidelines Program Plan 15 (Preliminary Plan 15) and solicits public comment. The Clean Water Act (CWA) requires the EPA to biennially publish a plan for new and revised effluent limitations guidelines, after public review and comment. Preliminary Plan 15 discusses EPA's 2020 annual review of effluent limitations guidelines and pretreatment standards, presents the agency's preliminary review of specific categories identified through the review, provides an update on the analyses and tools that EPA is continuing to develop, and discusses several new and ongoing rulemaking actions.

DATES: Comments must be received on or before October 14, 2021.

ADDRESSES: Submit your comments, identified by Docket ID No. EPA-HQ-OW-2021-0547, to the Federal eRulemaking Portal: http://www.regulations.gov. Follow the online instructions for submitting comments. Once submitted, comments cannot be edited or withdrawn. EPA may publish any comment received to its public docket. Do not submit electronically any information you consider to be Confidential Business Information (CBI) or other information whose disclosure is restricted by statute. Multimedia submissions (audio, video, etc.) must be accompanied by a written comment. The written comment is considered the official comment and should include discussion of all points you wish to make. EPA will generally not consider comments or comment contents located outside of the primary submission (i.e. on the web, cloud, or other file sharing system). For additional submission methods, the full EPA public comment policy, information about CBI and multimedia submissions, and general guidance on making effective comments, please visit http://www.epa.gov/dockets/commenting-epa-dockets.

FOR FURTHER INFORMATION CONTACT: Dr. Phillip Flanders, Engineering and Analysis Division, Office of Water, 4303T, U.S. Environmental Protection Agency, 1200 Pennsylvania Avenue NW, Washington, DC 20460; telephone number: (202) 566-8323; fax number: (202) 566-1053; email address: flanders.phillip@epa.gov.

SUPPLEMENTARY INFORMATION:

I. General Information

A. Supporting Documents

A key document providing additional information is the Preliminary Effluent Guidelines Program Plan 15 document. Supporting documents providing further details are also available for review.

B. How can I get copies of these documents and other related information?

1. Docket. The EPA has established an official public docket for these actions under Docket ID No. EPA-HQ-OW-2021-0547. The official public docket is the collection of materials that are available for public viewing at the Water Docket in the EPA Docket Center, (EPA/DC) EPA West, Room 3334, 1301 Constitution Ave. NW, Washington, DC 20460.

2. Electronic Access. You can access this Federal Register document electronically through the United States Government online source for Federal regulations at http://www.regulations.gov.

3. Internet access. Copies of the supporting documents are available at http://www.epa.gov/eg/effluent-guidelines-plan.

II. How is this document organized?

The outline of this document follows.

A. Legal Authority.

B. Summary of Preliminary Effluent Guidelines Program Plan 15.

C. Request for Public Comments and Information.

A. Legal Authority

This notice is published under the authority of the CWA, 33 U.S.C. 1251, et seq., and in particular sections 301(d), 304(b), 304(g), 304(m), 306, 307(b) and 308 of the Act, 33 U.S.C. 1311(d), 1314(b), 1314(g), 1314(m), 1316, 1317(b), and 1318.

B. Summary of Preliminary Effluent Guidelines Program Plan 15

EPA prepares Preliminary Effluent Guidelines Program Plans pursuant to CWA section 304(m). Preliminary plans provide a summary of the EPA's annual review of effluent limitations guidelines and pretreatment standards, consistent with CWA sections 301(d), 304(b), 304(g), 304(m), and 307(b). From these reviews, preliminary plans identify any new or existing industrial categories selected for effluent limitations guidelines or pretreatment standards rulemakings and provide a schedule for such rulemakings. In addition, preliminary plans present any new or existing categories of industry selected for further review and analysis.

Preliminary Plan 15 discusses EPA's 2020 annual review of effluent limitations guidelines and pretreatment standards, presents its preliminary review of specific categories identified through the review, provides an update on the analyses and tools that EPA is continuing to develop, and discusses several new and ongoing rulemaking actions.

EPA is initiating three new rulemakings after concluding several studies that were discussed in Plan 14. After several years of collecting and analyzing data, EPA has concluded that revision of the following effluent limitations guidelines or pretreatment standards are warranted:

1. Meat and Poultry Products point-source category to address nutrient discharges (see Section 6.2 of the preliminary plan for additional details)

2. Organic Chemicals, Plastics & Synthetic Fibers point-source category to address Per- and Polyfluoroalkyl Substances (PFAS) discharges (see Section 6.4 of the preliminary plan for additional details)

3. Metal Finishing point-source category to address PFAS discharges (see Section 6.4 of the preliminary plan for additional details)

Preliminary Plan 15 also discusses the Steam Electric Generating category rulemaking that the agency announced on July 26, 2020. At that time, EPA announced that the agency was initiating a rulemaking process to strengthen certain wastewater pollution discharge limits for coal power plants that use steam to generate electricity. See Section 7.1 of the preliminary plan for additional details.

Finally, Preliminary Plan 15 provides updates on ongoing point source category studies of the electrical and electronic components category and the Multi-Industry PFAS study and explains the agency's intention to take no further action on oil and gas extraction wastewater management. It also discusses the initial results from EPA's review for the metal products and machinery, explosives manufacturing, canned and preserved seafood, sugar processing, soap and detergent manufacturing, and landfill point source categories.

Preliminary Plan 15 can be found at http://www.epa.gov/eg/effluent-guidelines-plan.

C. Request for Public Comments and Information

EPA requests comments and information on the overall content of Preliminary Plan 15. In particular, EPA requests comments on the announcements regarding ongoing studies and rulemaking activities (see Sections 6 and 7 of the plan for additional details), and the topics below. See Preliminary Plan 15 for more information on these issues.

1. Reviews of Industrial Wastewater Discharges and Treatment Technologies.

EPA solicits feedback on the cross-category rankings analysis. To the extent that any comment advocates for a revision to existing effluent limitations guidelines (ELGs), the commenter should explain why EPA should prioritize these point source categories ahead of the ones that EPA is studying and revising.

2. Membrane Wastewater Treatment Technology.

EPA solicits comment on the capabilities, performance, and costs of membrane treatment technologies for industrial wastewater to support the membrane technology review.

3. Environmental Justice.

EPA solicits comment on how best to incorporate environmental justice into the ELG planning process.

4. PFAS Multi-Industry Study.

EPA solicits feedback on the findings of the Multi-Industry PFAS study, specifically findings from the pulp and paper manufacturers and commercial airports.

Radhika Fox,
Assistant Administrator.

[FR Doc. 2021-19787 Filed 9-13-21; 8:45 am]

BILLING CODE 6560-50-P